DEPARTMENT OF COMMERCE

Foreign-Trade Zones Board

[Docket 53-2003]

Foreign-Trade Zone 200—Mercer County, NJ, Area; Application for Expansion

An application has been submitted to the Foreign-Trade Zones (FTZ) Board (the Board) by Mercer County, New Jersey, grantee of FTZ 200, requesting authority to expand its zone to include sites in the municipalities of Ewing Township, the City of Trenton, Washington Township, East Windsor Township and Hamilton Township, within the Consolidated Port of the Delaware River and Bay Customs port of entry. The application was submitted pursuant to the provisions of the Foreign-Trade Zones Act, as amended (19 U.S.C. 81a-81u), and the regulations of the Board (15 CFR Part 400). It was formally filed on October 3, 2003.

FTZ 200 was approved on March 11, 1994 (Board Order 683, 59 F.R. 13698, 3/23/94) and consists of one site covering 70 acres on 5 parcels within the 450-acre Mercer County Airport complex on Scotch Road, West Trenton.

The applicant is now requesting authority to expand its general-purpose zone to include five new sites within five Mercer County municipalities: Proposed Site 2 (18 acres)—Municipality of Ewing along the Lower Ferry Road Business Area at 1425/1445 Lower Ferry Road and 7 Graphics Drive; Proposed Site 3a (85 acres)—Marine Terminal Industrial Park, located between 1463-2785 Lambert Street, Trenton; Proposed Site 3b (20 acres)—Roebling Market (Park), extending along Clinton Avenue and between South Broad Street, Clark Street and Conovers Alley, Trenton; and Proposed Site 3c (24 acres)—Hill Industrial Park, between Pennington Avenue, Ingham Avenue, Chelton Avenue and Globe Street, Trenton; Proposed Site 4a (883 acres)—Northwest Business Park, between the intersection of Interstate 195 and the New Jersey Turnpike exit 7A, Municipality of Washington; Proposed Site 4b (243 acres)—Windsor Industrial Park, between 92-120 North Main Street and Hankins Road, Municipality of Washington; and, Proposed Site 4c (33 acres)—North Gold Industrial Park, along North Gold Drive, Municipality of Washington; Proposed Site 5 (361 acres)—New Jersey Turnpike Exit 8—Route 33 Corridor, Municipality of East Windsor; and, Proposed Site 6a (629 acres)—East State Street Corridor, the Industrial Drive Business Area and the Fairgrounds Industrial Park Area, along Industrial Drive and between E. State Street, Sloan Avenue, Whitehead Road and Nottingham Way, Municipality of Hamilton; and Proposed Site 6b (562 acres)—Crossroads Corporate Center on Crossroads Drive, Edgerbrook Business Park on Black Forest Road, Kuser Road Business Development Area on Kuser Road, Hamilton Business Park between Gold Drive and Marlen Drive, the Interstate 95 Business Park on Commerce Way, Matrix Industrial Park on Cabot Drive, and the Horizon Center between Horizon Center Boulevard and Horizon Drive, Municipality of Hamilton. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099—14th Street, NW, Washington, DC 20005; or

2. Submissions via the U.S. Postal Service: Foreign-Trade Zones Board, U.S. Department of Commerce, FCB-Suite 4100W, 1401 Constitution Avenue, NW, Washington, DC 20230.

The closing period for their receipt is December 9, 2003. Rebuttal comments in response to material submitted during the foregoing period may be submitted during the subsequent 15-day period (to December 24, 2003).

A copy of the application and accompanying exhibits will be available during this time for public inspection at address Number 1 listed above, and at the U.S. Department of Commerce, International Trade Administration, Export Assistance Center, 20 West State Street, Trenton, New Jersey 08625.

Dated: October 3, 2003.
Dennis Puccinelli,
Executive Secretary.

[FR Doc. 03-25776 Filed 10-9-03; 8:45 am]

BILLING CODE 3510-DS-P